NUCLEAR REGULATORY COMMISSION

Advisory Committee on Reactor Safeguards; Subcommittee Meeting on Fire Protection; Notice of Meeting

The ACRS Subcommittee on Fire Protection will hold a meeting on April 23, 2004, Room T-2B3, 11545 Rockville Pike, Rockville, Maryland.

The entire meeting will be open to public attendance.

The agenda for the subject meeting shall be as follows: Friday, April 23, 2004—8:30 a.m. until the conclusion of business.

The purpose of this meeting is to discuss the resolution of post-fire safe shutdown circuit analysis issues, revisions to the Reactor Oversight Process (ROP) Fire SDP, and the preliminary results of the staff's Fire Risk Requantification Study. The Subcommittee will hear presentations by and hold discussions with the NRC staff, representatives of the Nuclear Energy Institute, and other interested persons regarding this matter. The Subcommittee will gather information, analyze relevant issues and facts, and formulate proposed positions and actions, as appropriate, for deliberation by the full Committee.

Members of the public desiring to provide oral statements and/or written comments should notify the Designated Federal Official, Mr. Marvin D. Sykes (Telephone: 301-415-8716) five days prior to the meeting, if possible, so that appropriate arrangements can be made. Electronic recordings will be permitted.

Further information regarding this meeting can be obtained by contacting the Designated Federal Official or the Cognizant Staff Engineer between 7:30 a.m. and 4:15 p.m. (ET). Persons planning to attend this meeting are urged to contact one of the above named individuals at least two working days prior to the meeting to be advised of any potential changes to the agenda.

Dated: April 2, 2004.
Michael R. Snodderly,
Acting Associate Director for Technical Support, ACRS/ACNW.

[FR Doc. 04-8045 Filed 4-8-04; 8:45 am]

BILLING CODE 7590-01-P